NATIONAL AERONAUTICS AND SPACE ADMINISTRATION

[Notice (10-149)]

NASA Advisory Council; Science Committee; Astrophysics Subcommittee; Meeting

AGENCY: National Aeronautics and Space Administration.

ACTION: Notice of meeting.

SUMMARY: In accordance with the Federal Advisory Committee Act, Public Law 92-463, as amended, the National Aeronautics and Space Administration (NASA) announces a meeting of the Astrophysics Subcommittee of the NASA Advisory Council (NAC). This Subcommittee reports to the Science Committee of the NAC. The Meeting will be held for the purpose of soliciting from the scientific community and other persons scientific and technical information relevant to program planning.

DATES: Wednesday, December 22, 2010, 1 p.m. to 2 p.m. EST.

ADDRESSES: This meeting will take place telephonically and by WebEx. Any interested person may call the USA toll free conference call number 888-972-9925 or toll number 312-470-0184, pass code APS, to participate in this meeting by telephone. The WebEx link is https://nasa.webex.com, meeting number 996 142 777, and password APS$Dec2010.

SUPPLEMENTARY INFORMATION: The meeting will be open to the public. The agenda for the meeting includes the following topics:

—Astrophysics Division Update

—James Webb Space Telescope Update

It is imperative that the meeting be held on these dates to accommodate the scheduling priorities of the key participants.

Dated: November 23, 2010.
P. Diane Rausch,
Advisory Committee Management Officer, National Aeronautics and Space Administration.

[FR Doc. 2010-29972 Filed 11-29-10; 8:45 am]

BILLING CODE P